DEPARTMENT OF HOUSING AND URBAN DEVELOPMENT

[Docket No. FR-4912-N-22]

Notice of Availability of Addendum to the Record of Decision and Lead Agency Findings Statement for the World Trade Center Memorial and Redevelopment Plan in the Borough of Manhattan, City of New York, NY

AGENCY: Office of the Assistant Secretary for Community Planning and Development, HUD.

ACTION: Notice.

SUMMARY: HUD gives notice to the public, agencies, and Indian tribes that the Lower Manhattan Development Corporation (LMDC) has adopted Addendum D-1 (ROD Addendum) to the Record of Decision and Lead Agency Findings Statement (ROD) for the World Trade Center Memorial and Redevelopment Plan (Approved Plan). This notice is given on behalf of LMDC. LMDC is a subsidiary of the New York State Urban Development Corporation d/b/a Empire State Development Corporation (a political subdivision and public benefit corporation of the State of New York). As the recipient of HUD Community Development Block Grant funds appropriated for the World Trade Center disaster recovery and rebuilding efforts, LMDC acts, pursuant to 42 U.S.C. 5304(g), as the responsible entity for compliance with the National Environmental Policy Act (NEPA) in accordance with 24 CFR 58.4. LMDC also acts under its authority as lead agency in accordance with the New York State Environmental Quality Review Act (SEQRA). The ROD Addendum has been adopted in coordination with the Port Authority of New York and New Jersey (Port Authority). This notice is given in accordance with the Council on Environmental Quality regulations at 40 CFR parts 1500-1508.

FOR FURTHER INFORMATION CONTACT: Further information and a copy of the ROD Addendum and Technical Memorandum may be obtained by contacting Avalon Simon, Paralegal, Lower Manhattan Development Corporation, One Liberty Plaza, 20th Floor, New York, NY 10006; telephone number (212) 962-2300. Further information and a copy of the ROD Addendum and Technical Memorandum are also available on LMDC's Web site: http://renewnyc.com in the “Planning, Design & Development” section. A copy of the ROD Addendum and Technical Memorandum is also available for public review at the following locations: (1) Chatham Square Library, 33 East Broadway, New York, NY 10002; (2) New Amsterdam Library, 9 Murray Street, New York, NY 10007; (3) Humanities and Social Sciences Library, 476 Fifth Avenue, New York, NY 10018; (4) Hamilton Fish Library, 415 East Houston Street, New York, NY 10002; (5) Hudson Park Library, 66 Leroy Street, New York, NY 10014; (6) Manhattan Community Board 1, 49-51 Chambers Street, #715, New York, NY 10007; (7) Manhattan Community Board 2, 3 Washington Square Village, Suite 1A, New York, NY 10012; and (8) Manhattan Community Board 3, 59 East 4th Street, New York, NY 10003.

SUPPLEMENTARY INFORMATION: A Technical Memorandum on the ROD Addendum, which creates an alternative compliance path to achieve the objectives of the Sustainable Design Guidelines set forth in Appendix D to the ROD, as well as other project changes, has been prepared by LMDC, as lead agency, in cooperation with HUD and the Port Authority. Based on this assessment, LMDC has determined that the ROD Addendum will not, either individually or cumulatively, have a significant impact on the quality of the human environment or a significant adverse environmental impact not already analyzed and disclosed in the ROD or the FGEIS for the Approved Plan. Therefore, a supplemental environmental impact statement will not be undertaken under NEPA or SEQRA. LMDC has adopted all practicable means to avoid or minimize environmental harm from the selected project and adopted monitoring and enforcement programs where applicable for mitigation.

Questions may be directed to the individual named above under the heading FOR FURTHER INFORMATION CONTACT.

Dated: March 13, 2007.
Nelson R. Bregón,
General Deputy Assistant Secretary for Community Planning and Development.

[FR Doc. E7-5096 Filed 3-20-07; 8:45 am]

BILLING CODE 4210-67-P